DEPARTMENT OF ENERGY

Federal Energy Regulatory Commission

[Project No. 13080-003]

Putnam Green Power, LLC; Notice of Application Tendered for Filing With the Commission and Soliciting Additional Study Requests

Take notice that the following hydroelectric application has been filed with the Commission and is available for public inspection.

a. Type of Application: Exemption from Licensing.

b. Project No.: 13080-003.

c. Filing Date: April 13, 2011.

d. Applicant: Putnam Green Power, LLC.

e. Name of Project: Cargill Falls Hydroelectric Project.

f. Location: On the Quinebaug River, in the Town of Putnam, Windham County, Connecticut. The proposed project would not occupy any Federal lands.

g. Filed Pursuant to: Public Utility Regulatory Policies Act of 1978, 16 U.S.C. 2705, 2708.

h. Applicant Contact: Ms. Leanne Parker, Putnam Green Power, LLC, 58 Pomfrest Street, Putnam, CT 06260; (401) 529-8738; parkerleanne@yahoo.com.

i. FERC Contact: Jeff Browning at (202) 502-8677; or e-mail at Jeffrey.browning@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, 18 CFR 4.32(b)(7), if any resource agency, Indian Tribe, or person believes that an additional scientific study should be conducted in order to form an adequate factual basis for a complete analysis of the application on its merit, the resource agency, Indian Tribe, or person must file a request for a study with the Commission not later than 60 days from the date of filing of the application, and serve a copy of the request on the applicant. Because the application was denied and then reinstated with a new filing date of April 13, 2011, a request for a study must be filed with the Commission no later than 60 days from April 13, 2011.

l. Deadline for filing additional study requests and requests for cooperating agency status: June 13, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

m. The application is not ready for environmental analysis at this time.

n. Project description: (1) Two existing concrete gravity dams consisting of a 60-foot-long, 18-foot-high overflow spillway, and an 85-foot-long, 18-foot-high gated spillway separated by a 70-foot-long natural rock outcrop; (2) an existing 13-acre upper reservoir with a normal water surface elevation of 253.4 feet above mean sea level; (3) an existing forebay and intake structure equipped with four 3-foot-wide, 5-foot-high gates; (4) an existing 135-foot-long penstock bifurcating into existing 135-foot-long and 360-foot-long penstocks; (5) two existing powerhouses, one that will contain a refurbished 530 kilowatt (kW) generating unit and one that will contain a refurbished 345 kW unit for a total installed capacity of 875 kW; (6) two existing tailraces, one 75-foot-long, and one 125-foot-long; and (7) an existing 100-foot-long transmission line.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Connecticut State Historic Preservation Officer (SHPO), as required by 106, National Historic Preservation Act, and the regulations of the Advisory Council on Historic Preservation, 36 CFR 800.4.

q. Procedural schedule: The application will be processed according to the following preliminary Hydro Licensing Schedule. Revisions to the schedule will be made as appropriate.

Issue Notice of Acceptance | June 2011.
Issue Notice of Ready for Environmental Analysis | June 2011.
Comments, Recommendations, and Terms and Conditions | Aug. 2011.
Commission issues EA | Nov. 2011.

Dated: April 28, 2011.
Kimberly D. Bose,
Secretary.

[FR Doc. 2011-10841 Filed 5-3-11; 8:45 am]

BILLING CODE 6717-01-P